ENVIRONMENTAL PROTECTION AGENCY

[RCRA-2005-0007, FRL-7902-3]

Agency Information Collection Activities: Continuing Collection; Comment Request; Information Collection Request for RCRA Reporting and Recordkeeping Requirements for Boilers and Industrial Furnaces Burning Hazardous Waste, EPA ICR Number 1361.10, OMB Control Number 2050-0073

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Information Collection Request for RCRA Reporting and Recordkeeping Requirements for Boilers and Industrial Furnaces (BIFs) Burning Hazardous Waste, EPA ICR Number 1361.10, OMB Control Number 2050-0073, expires 12/31/2005. This ICR includes the burden on these facilities by the general hazardous waste facility standards, specific unit requirements, Part B permit application and modification requirements, and the comparable/syngas fuel specification requirements covered by 40 CFR parts 261, 264, 265, 266 and 270. Before submitting the ICR to OMB for review and approval, EPA is soliciting comments on specific aspects of the proposed information collection as described below.

DATES: Comments must be submitted on or before June 20, 2005.

ADDRESSES: Submit your comments, referencing docket ID number RCRA-2005-0007, to EPA online using EDOCKET (our preferred method), by e-mail to RCRA-docket@epa.gov, or by mail to: EPA Docket Center, Environmental Protection Agency, RCRA Docket, mail code 5305T, 1200 Pennsylvania Ave., NW., Washington, DC 20460.

FOR FURTHER INFORMATION CONTACT: Shiva Garg, Environmental Protection Agency, 1200 Pennsylvania Ave., NW., Washington, DC 20460, Mail Code 5302W; telephone number: (703) 308-8459, fax number: (703) 308-8433, e-mail garg.shiva@epa.gov.

SUPPLEMENTARY INFORMATION: EPA has established a public docket for this ICR under Docket ID number RCRA-2005-0007, which is available for public viewing at the RCRA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the RCRA Docket is (202) 566-0270. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are those which generate, treat and store hazardous waste. Examples include hazardous waste incinerators, boilers, cement kilns and lightweight aggregate kilns that burn hazardous waste.

Title: RCRA Reporting and Recordkeeping Requirements for Boilers and Industrial Furnaces Burning Hazardous Waste.

Abstract: EPA regulates the burning of hazardous waste by several source categories of hazardous waste combustors under 40 CFR parts 63, 261, 264 thru 266 and part 270. The standards to control emissions of hazardous air pollutants from boilers and industrial furnaces were promulgated under Resource Conservation and Recovery Act (RCRA) on February 21, 1991 (see 56 FR 7208) and are codified in 40 CFR parts 266 and 270. The general facility and comparable/syngas fuel standards, and financial requirements are covered in 40 CFR parts 261, 264 and 265. Revised standards to control emissions of hazardous air pollutants from incinerators, cement kilns and lightweight aggregate kilns that burn hazardous wastes were promulgated on September 30, 1999, under the joint authority of RCRA and Clean Air Act (CAA). See 64 FR 52828. The EPA ICR #1773.06 relating to the CAA provisions (codified in 40 CFR part 63) has been published separately under OMB Control #2050-0171. The EPA ICR #1361.09 pertaining to RCRA provisions of the rule was approved under OMB Control #2050-0073, expires on December 31, 2005, and is being renewed now under this action.

The emission standards of the September 30, 1999 rule created maximum achievable control technology (MACT) based standards for hazardous air pollutant emissions under CAA, assuring that combustion of hazardous waste in these devices is properly controlled, while the RCRA provisions satisfied EPA's mandate to ensure that hazardous waste combustion is conducted in a manner protective of human health and the environment. Thus, we have consolidated regulatory control of hazardous waste combustion into a single set of regulations, thereby minimizing the potential for conflicting or duplicate federal requirements and burden on the regulated community.

The information collection required under this ICR is mandatory for the regulated sources, as it is essential to properly enforce the emission limitation requirements of the rule and will be used to further the proper performance of the functions of EPA. EPA believes that if the minimum requirements specified under the regulations are not met, EPA will not fulfill its Congressional mandate to protect public health and the environment. EPA, however, has made extensive efforts to integrate the monitoring, compliance testing and recordkeeping requirements of the CAA and RCRA, so that the facilities are able to avoid the burden of duplicate and unnecessary submissions. We also ensure, to the fullest extent by law, the confidentiality of the submitted information. EPA may not conduct or sponsor, and a person is not required to respond to, a collection of information unless it displays a currently valid OMB control number. The OMB control numbers for EPA's regulations are listed in 40 CFR part 9 and 48 CFR chapter 15.

The EPA would like to solicit comments to:

(i) Evaluate whether the proposed collections of information are necessary for the proper performance of the functions of the Agency, including whether the information will have practical utility;

(ii) Evaluate the accuracy of the Agency's estimates of the burdens for reporting and recordkeeping requirements of the proposed collections of information;

(iii) Enhance the quality, utility, and clarity of the information to be collected; and,

(iv) Minimize the burden of the collections of information on those who are to respond, including through the use of appropriate automated or electronic collection technologies or other forms of information technology, e.g., permitting electronic submission of responses.

Burden Statement: The total average annual hourly burden for this ICR is estimated to be 307,949 hours for 1969 responses, which is roughly 156 hours per response. The total annual cost of this ICR is estimated to be $26,353,000, which represents $8,548,000 for capital/startup costs, and $17,805,000 for operation and maintenance costs.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 14, 2005.
Maria Parisi Vickers,
Acting Director, Office of Solid Waste.

[FR Doc. 05-8021 Filed 4-20-05; 8:45 am]

BILLING CODE 6560-50-P